DEPARTMENT OF TRANSPORTATION

Federal Aviation Administration

14 CFR Part 1

[Docket No. FAA-2007-27160; Amendment No. 1-56]

RIN 2120-AI97

Changes to the Definition of Certain Light-Sport Aircraft

AGENCY: Federal Aviation Administration (FAA), DOT.

ACTION: Disposition of comments on direct final rule; confirmation of effective date.

SUMMARY: On April 19, 2007, the FAA published a Direct Final Rule to amend the definition of a light-sport aircraft (LSA) in two areas. The changes permit development of lighter-than-air (LTA) LSA, and allow retractable landing gear for LSA intended for operation on water.

ADDRESSES: The complete docket for the Direct Final Rule on the LSA definition may be examined through the Department of Transportation's Docket Management System at http://www.dms.dot.gov. Use the Simple Search selection and type in the docket number, 27160.

FOR FURTHER INFORMATION CONTACT: Larry Werth, ACE-114, Small Airplane Directorate, Aircraft Certification Service, Federal Aviation Administration, 901 Locust, Room 301, Kansas City, MO 64106; telephone (816) 329-4147; fax: 816-329-4090; e-mail: larry.werth@faa.gov.

SUPPLEMENTARY INFORMATION:

Background

On July 27, 2004, the FAA issued the “Certification of Aircraft and Airmen for the Operation of Light-Sport Aircraft” final rule (69 FR 44772). That rule established a definition for the term “Light-Sport Aircraft” (LSA). Since we adopted that rule, the FAA has been working with the LSA industry in evaluating the overall LSA program. The past two years have seen remarkable growth in the overall LSA program. Over 600 new factory-built airplanes, powered parachutes, and weight-shift control aircraft have received airworthiness certificates. The exceptions to this rapid growth are lighter-than-air (LTA) LSA and LSA intended for operation on water.

In the first area, the FAA determined the current LTA LSA maximum takeoff weight (MTW) of 660 pounds (300 kilograms) precluded the desired effect of industry design and development of safe LTA LSA. The Direct Final Rule increased the LTA MTW to 1,320 pounds. In the second area, the FAA determined the physical differences between LSA intended for operation on water (amphibious LSA) and land-based LSA justify allowing retractable landing gear for amphibious LSA.

The Direct Final Rule containing these changes were issued April 9, 2007, and was published on April 19, 2007 (72 FR 19661). The public comment period closed May 21, 2007.

Discussion of Comments

The FAA received two comments from individuals in response to the Direct Final Rule.

One commenter suggested the regulation be amended to restrict the use of LSA to only unpopulated areas. This rulemaking is limited to the definition of LSA and changing the areas where LSA may operate is clearly beyond the scope of the Direct Final Rule.

The other commenter fully supports the revised definition and recommended consideration of design changes to facilitate egress from LSA should they crash and submerge inverted. The FAA has determined that this comment has merit; however, it is also beyond the scope of this rulemaking.

Committee F37 of ASTM International (originally formed as the American Society for Testing and Materials) developed the LSA design consensus standards. We will share the commenter's design change recommendations with the LSA industry through Committee F37 which has an ongoing responsibility to continually review LSA consensus standards.

Conclusion

After consideration of the comments submitted in response to the Direct Final Rule, the FAA has determined that no further rulemaking action is necessary. Amendment 1-56 remains in effect as adopted and is effective June 4, 2007.

Issued in Washington, DC, on June 4, 2007.
John J. Hickey,
Director, Aircraft Certification Service.

[FR Doc. 07-2835 Filed 6-7-07; 8:45 am]

BILLING CODE 4910-13-M